SECURITIES AND EXCHANGE COMMISSION

[Release No. 34-65224; File No. SR-CBOE-2011-081]

Self-Regulatory Organizations; Chicago Board Options Exchange, Incorporated; Notice of Filing and Immediate Effectiveness of Proposed Rule Change To Extend the Compliance Deadline for Qualification Pursuant to Rule 3.6A

August 30, 2011.

Correction

In notice document 2011-22774 appearing on pages 55447-55449 in the issue of September 7, 2011, make the following correction:

On page 55447, in the first column, the Release No. and File No., which were inadvertently omitted from the document heading, are added to read as set forth above.

[FR Doc. C1-2011-22774 Filed 9-16-11; 8:45 am]

BILLING CODE 1505-01-P